DEPARTMENT OF HOMELAND SECURITY

U.S. Customs and Border Protection

[Docket No. USCBP-2017-0001]

Commercial Customs Operations Advisory Committee (COAC)

AGENCY: U.S. Customs and Border Protection (CBP), Department of Homeland Security (DHS).

ACTION: Committee Management; Notice of Federal Advisory Committee Meeting.

SUMMARY: The Commercial Customs Operations Advisory Committee (COAC) will meet in Washington, DC. The meeting will be open to the public.

DATES: The Commercial Customs Operations Advisory Committee (COAC) will meet on Wednesday, March 1, 2017, from 9:00 a.m. to 1:00 p.m. EST. Please note that the meeting may close early if the committee has completed its business.

Pre-Registration: Meeting participants may attend either in person or via webinar after pre-registering using a method indicated below:

—For members of the public who plan to attend the meeting in person, please register by 5:00 p.m. EST by February 28, 2017, either online at https://apps.cbp.gov/te_reg/index.asp?w=107 by email to tradeevents@dhs.gov; or by fax to (202) 325-4290. You must register prior to the meeting in order to attend the meeting in person.

—For members of the public who plan to participate via webinar, please register online at https://apps.cbp.gov/te_reg/index.asp?w=106 by 5:00 p.m. EST by February 28, 2017.

Please feel free to share this information with other interested members of your organization or association.

Members of the public who are pre-registered and later need to cancel, please do so in advance of the meeting by accessing one (1) of the following links: https://apps.cbp.gov/te_reg/cancel.asp?w=107 to cancel an in person registration, or https://apps.cbp.gov/te_reg/cancel.asp?w=106 to cancel a webinar registration.

ADDRESSES: The meeting will be held at the U.S. Customs and Border Protection, Office of Training and Development, 1717 H Street NW., Training Rooms 7300 A-C, Washington, DC 20006. There will be signage posted directing visitors to the location of the meeting room.

For information on facilities or services for individuals with disabilities or to request special assistance at the meeting, contact Ms. Wanda Tate, Office of Trade Relations, U.S. Customs and Border Protection at (202) 344-1661 as soon as possible.

To facilitate public participation, we are inviting public comment on the issues the committee will consider prior to the formulation of recommendations as listed in the “Agenda” section below.

Comments must be submitted in writing no later than February 22, 2017, and must be identified by Docket No. USCBP-2017-0001, and may be submitted by one (1) of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 3.5A, Washington, DC 20229.

Instructions: All submissions received must include the words “Department of Homeland Security” and the docket number (USCBP-2017-0001) for this action. Comments received will be posted without alteration at http://www.regulations.gov. Please do not submit personal information to this docket.

Docket: For access to the docket or to read background documents or comments, go to http://www.regulations.gov and search for Docket Number USCBP-2017-0001. To submit a comment, click the “Comment Now!” button located on the top-right hand side of the docket page.

There will be multiple public comment periods held during the meeting on March 1, 2017. Speakers are requested to limit their comments to two (2) minutes or less to facilitate greater participation. Contact the individual listed below to register as a speaker. Please note that the public comment period for speakers may end before the time indicated on the schedule that is posted on the CBP Web page, http://www.cbp.gov/trade/stakeholder-engagement/coac.

FOR FURTHER INFORMATION CONTACT: Ms. Wanda Tate, Office of Trade Relations, U.S. Customs and Border Protection, 1300 Pennsylvania Avenue NW., Room 3.5A, Washington, DC 20229; telephone (202) 344-1661; facsimile (202) 325-4290.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The COAC will hear from the following subcommittees on the topics listed below and then will review, deliberate, provide observations, and formulate recommendations on how to proceed:

1. The Trade Modernization Subcommittee will discuss the progress of the International Engagement and Trade Facilitation Working Group which is identifying examples of best practices in the U.S. and abroad that facilitate trade. The subcommittee will also discuss the progress of the Revenue Modernization Working Group which is generating advice pertaining to the strategic modernization of Customs and Border Protection's revenue collections process and systems. Additionally, the subcommittee will discuss the progress of the Rulings and Decisions Working Group which has been identifying process improvements in the receipt and issuance of Customs and Border Protection Headquarters' rulings and decisions. Finally, the subcommittee will discuss the progress of the newly formed E-Commerce Working Group.

2. The One U.S. Government Subcommittee (1USG) will discuss the progress of the Fish & Wildlife Service (FWS) Working Group. The subcommittee will also discuss the progress and completion of the Automated Commercial Environment (ACE), core functions, and the Single Window Effort.

3. The Exports Subcommittee will discuss the final work of the Truck Manifest Sub-Working Group, which has been comparing the proposed truck manifest data elements with the Canadian elements. The Post Departure Filing Group will discuss its progress in finalizing the details of its Table Top Exercise.

4. The Trade Enforcement and Revenue Collection (TERC) Subcommittee will discuss the progress made on prior TERC recommendations and updates from the Anti-Dumping and Countervailing Duty (AD/CVD), Intellectual Property Rights (IPR), and Forced Labor Working Groups.

5. The Global Supply Chain Subcommittee will present their involvement in the review of a draft supply chain security C-TPAT best practice framework, on-going input received regarding the C-TPAT minimum security criteria and the progress of the Pipeline Working Group.

6. The Trusted Trader Subcommittee will continue their discussion on their vision for an enhanced Trusted Trader concept that includes engagement with CBP to include relevant partner government agencies with a potential for international interoperability.

Meeting materials will be available by February 27, 2017, at: http://www.cbp.gov/trade/stakeholder-engagement/coac/coac-public-meetings.

Dated: February 7, 2017.
Valarie Neuhart,
Acting Director, Office of Trade Relations.

[FR Doc. 2017-02773 Filed 2-9-17; 8:45 am]

BILLING CODE 9111-14-P